DEPARTMENT OF AGRICULTURE

Food and Nutrition Service

Agency Information Collection Activities: Proposed Collection; Comment Request—Form FNS-209, Status of Claims Against Households

AGENCY: Food and Nutrition Service, USDA.

ACTION: Notice.

SUMMARY: In accordance with the Paperwork Reduction Act of 1995, this notice invites the general public and other public agencies to comment on proposed information collections. Sections 11, 13, and 16 of the Food Stamp Act of 1977 (the Act) are the bases for the information collected on Form FNS-209, Status of Claims Against Households. Section 11 of the Act requires that State agencies submit reports and other information that are necessary to determine compliance with the Act and its implementing regulations. Section 13 of the Act requires State agencies to establish claims and collect overpayments to households. Section 16 of the Act authorizes State agencies to retain a portion of what is collected. The FNS-209 is used as the mechanism for State agencies to report the claim establishment, collection and retention amounts.

DATES: Written comments must be submitted on or before August 26, 2002, to be assured consideration.

ADDRESSES: Send comments to Barbara Hallman, Chief, State Administration Branch, Food and Nutrition Service, USDA, 3101 Park Center Drive, Alexandria, Virginia, 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

All comments will be summarized and included in the request for Office of Management and Budget approval of the information collection. All comments will become a matter of public record.

FOR FURTHER INFORMATION CONTACT: Leslie C. Byrd, (703) 305-2472.

SUPPLEMENTARY INFORMATION: Title: Status of Claims Against Households.

OMB Number: 0584-0069.

Form Number: FNS-209.

Expiration Date: May 31, 2003.

Type of Request: Extension of a currently approved collection with no change in burden hours.

Abstract: The Food Stamp Program regulations at 7 CFR 273.18 require that State agencies establish, collect and efficiently manage food stamp recipient claims. Section 273.18(m)(5) requires State agencies to submit at the end of every quarter the completed Form FNS-209, Status of Claims Against Households. The information required for the FNS-209 report is obtained from a State accounting system responsible for establishing claims, sending demand letters, collecting claims, and managing other claim activity. In general, State agencies must report the following information on the FNS-209: the current outstanding aggregate claim balance; claims established; collections; any balance and collection adjustments; and the amount to be retained for collecting non-agency error claims. The burden associated with establishing claims (demand letters) and the Treasury Offset Program, both of which are also used to complete the FNS-209, are already approved under OMB burden numbers 0584-0492 and 0584-0446 respectively.

The estimated annual burden is 742 hours. This is the same as the currently approved burden. This estimate includes the time it takes each State agency to accumulate and tabulate the data necessary to complete the report four times per year.

Affected Public: State Agencies.

Estimated Number of Respondents: 53.

Number of Responses Per Respondent: 4.

Total Responses: 212.

Estimated Time per Response: 3 hours.

Reporting Burden: 636.

Total Number of Record Keepers: 53.

Estimated Annual hours per Record Keeper: 2.

Record Keeping Burden: 106.

Estimated Total Annual Burden: 742 hours.

Dated: June 14, 2002.
Eric M. Bost,
Under Secretary, Food, Nutrition, and Consumer Services.

[FR Doc. 02-16102 Filed 6-25-02; 8:45 am]

BILLING CODE 3410-30-P